DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On July 24, 2023, OFAC determined that the property and interests in property subject to U.S. jurisdiction of the following persons are blocked under the relevant sanctions authority listed below.

Individuals

1. BAGAYOKO, Adama, Mali; DOB 14 Sep 1979; POB Bamako, Mali; nationality Mali; citizen Mali; Gender Male; Passport AA0262268 (Mali) (individual) [RUSSIA-EO14024] (Linked To: PRIVATE MILITARY COMPANY `WAGNER').

Designated pursuant to section 1(a)(vi) of Executive Order 14024 of April 15, 2021, “Blocking Property With Respect To Specified Harmful Foreign Activities of the Government of the Russian Federation,” 86 FR 20249, 3 CFR, 2021 Comp., p. 542 (Apr. 15, 2021) (E.O. 14024) for having materially assisted, sponsored, or provided financial, material, or technological support for, or goods or services to or in support of, Private Military Company `WAGNER' (Wagner) a person whose property and interests in property are blocked pursuant to E.O. 14024.

2. CAMARA, Sadio, Bamako, Mali; Malibougou, Kati, Koulikoro, Mali; DOB 22 Mar 1979; POB Kati, Koulikoro, Mali; nationality Mali; citizen Mali; alt. citizen France; Gender Male; Passport DA0004031 (Mali) expires 15 Oct 2015 (individual) [RUSSIA-EO14024] (Linked To: PRIVATE MILITARY COMPANY `WAGNER').

Designated pursuant to section 1(a)(vi) of E.O. 14024 for having materially assisted, sponsored, or provided financial, material, or technological support for, or goods or services to or in support of, Wagner, a person whose property and interests in property are blocked pursuant to E.O. 14024.

3. DIARRA, Alou Boi, Bamako, Mali; DOB 01 Sep 1981; POB Kati Koulikoro, Mali; nationality Mali; citizen Mali; Gender Male; Passport DA0004002 (Mali) (individual) [RUSSIA-EO14024] (Linked To: PRIVATE MILITARY COMPANY `WAGNER').

Designated pursuant to section 1(a)(vi) of E.O. 14024 for having materially assisted, sponsored, or provided financial, material, or technological support for, or goods or services to or in support of, Wagner, a person whose property and interests in property are blocked pursuant to E.O. 14024.

Dated: July 24, 2023.
Bradley T. Smith,
Deputy Director, Office of Foreign Assets Control, U.S. Department of the Treasury.

[FR Doc. 2023-15975 Filed 7-26-23; 8:45 am]

BILLING CODE 4810-AL-P